DEPARTMENT OF ENERGY

Federal Energy Regulatory Commission

Notice of Application To Amend License and Soliciting Comments, Motions To Intervene, and Protests

August 17, 2004.

Take notice that the following hydroelectric application has been filed with the Commission and is available for public inspection:

a. Type of Application: Request to amend license to delete article 402.

b. Project No.: 2438-030.

c. Date Filed: July 12, 2004.

d. Applicant: Seneca Falls Power Corporation.

e. Name of Project: Waterloo and Seneca Falls Project.

f. Location: The project is located on the Seneca River section of the New York State Canal System, between Seneca and Cayuga Lake, in Cayuga, Seneca, Yates, Schuyler, and Ontario Counties, New York.

g. Filed pursuant to: Federal Power Act, 16 U.S.C. 791(a)-825(r) and §§ 799 and 801.

h. Applicant Contact: Mr. Scott Goodwin, Seneca Falls Power Corporation, 3330 Clayton Road, Suite B, Concord, CA 94519, (925) 692-2198.

i. FERC Contact: Any questions on this notice should be addressed to Diana Shannon (202) 502-8887, or diana.shannon@ferc.gov.

j. Deadline for filing motions to intervene, protests, comments: September 20, 2004.

The Commission's Rules of Practice and Procedure require all interveners filing a document with the Commission to serve a copy of that document on each person on the official service list for the project. Further, if an intervener files comments or documents with the Commission relating to the merits of an issue that may affect the responsibilities of a particular resource agency, they must also serve a copy of the documents on that resource agency.

k. Description of Proposed Action: The licensee states conflicting operating requirements exist in the license. Article 402 requires run-of-river operation, while article 405 requires the licensee to operate the project within certain reservoir elevations and operate the project in accordance with a rule curve developed by the New York State Thruway Authority and the New York State Electric and Gas Corporation (the previous licensee). The licensee requests that the discrepancy in operating requirements be clarified and/or remove the run-of-river requirement contained in article 402.

l. The filing is available for review at the Commission in the Public Reference Room or may be viewed on the Commission's Web site at http://www.ferc.gov using the “eLibrary” link. Enter the docket number excluding the last three digits in the docket number field to access the document. For assistance, call toll free 1-866-208-3676 or e-mail FERCOnlineSupport@ferc.gov. For TTY, call (202) 502-8659. A copy is also available for inspection and reproduction at the address in item h.

m. Individuals desiring to be included on the Commission's mailing list should so indicate by writing to the Secretary of the Commission.

n. Comments, Protests, or Motions to Intervene—Anyone may submit comments, a protest, or a motion to intervene in accordance with the requirements of Rules and Practice and Procedure 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the docket number (P-2438-030) on any comments or motions filed. Comments, protests, and interventions may be filed electronically via the internet in lieu of paper. See 18 CFR 385.2001(a)(1)(iii) and the instructions on the Commission's Web site under the “e-Filing” link. The Commission strongly encourages e-filings. All documents should be filed with: The Secretary, Federal Energy Regulatory Commission, 888 First Street, NE., Washington, DC 20426. A copy of any motion to intervene must also be served upon each representative of the Applicant specified in the particular application.

p. Agency Comments (Federal, State, and local agencies are invited to file comments on the described application. A copy of the application may be obtained by agencies directly from the Applicant. If an agency does not file comments within the time specified for filing comments, it will be presumed to have no comments. One copy of an agency's comments must also be sent to the Applicant's representative.

Linda Mitry,
Acting Secretary.

[FR Doc. E4-1897 Filed 8-24-04; 8:45 am]

BILLING CODE 6717-01-P